DEPARTMENT OF DEFENSE

Office of the Secretary

[Docket ID: DoD-2015-OS-0105]

Privacy Act of 1974; System of Records

AGENCY: Defense Contract Audit Agency, DoD.

ACTION: Notice to add a new System of Records.

SUMMARY: The Defense Contract Audit Agency proposes to add a new system of records, RDCAA 900.1, entitled “DCAA Inspector General Records” to record information related to official DCAA Inspector General investigations and actions taken in investigative recommendations; to compile statistical information to disseminate to other components within the Department of Defense engaged in the Hotline Program; to provide prompt, responsive, and accurate information regarding the status of ongoing cases; and to provide a record of complaint disposition. Complaints appearing to involve criminal wrongdoing will be referred to the Defense Criminal Investigative Service or other criminal investigative units of DoD components.

DATES: Comments will be accepted on or before November 27, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, Telephone number: (703) 767-1022.

SUPPLEMENTARY INFORMATION: The Defense Contract Audit Agency notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on August 5, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 21, 2015.
Aaron Siegel,
Alternate OSD Federal Register Liaison Officer, Department of Defense.

RDCAA 900.1

System name:

DCAA Inspector General Records.

System location:

Office of Inspector General, Headquarters Defense Contract Audit Agency, 8725 John J. Kingman Road, Suite 2135, Fort Belvoir, VA 22060-6219.

Categories of individuals covered by the system:

All persons (civilian, military, contractors, and/or members of the public) who have registered a complaint or request for assistance with the Defense Contract Audit Agency Inspector General. Individuals who are or have been involved in Inspector General Activities as participants, witnesses, subject matter experts, subjects or suspects.

Categories of records in the system:

Individual's name, case number, address, phone number, reports of investigations, statements of individuals, correspondence, inspections or inquiries pertaining to complaints made to or investigated by the Defense Contract Audit Agency Inspector General.

Authority for maintenance of the system:

5 U.S.C. 301, Departmental Regulations; DoD Directive 5105.36, Defense Contract Audit Agency (DCAA); 5 U.S.C., Appendix 3, Inspector General Act of 1978, as amended; DoD Directive 5106.04, Defense Inspectors General; DoD Directive 5106.1, Inspector General of the Department of Defense (IG DoD); DoD Directive 7050.1, Defense Hotline Program; and E.O. 9397 (SSN), as amended.

Purpose(s):

To record information related to official DCAA Inspector General investigations and actions taken in investigative recommendations. To compile statistical information to disseminate to other components within the Department of Defense engaged in the Hotline Program. To provide prompt, responsive, and accurate information regarding the status of ongoing cases. To provide a record of complaint disposition. Complaints appearing to involve criminal wrongdoing will be referred to the Defense Criminal Investigative Service or other criminal investigative units of DoD components.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To Federal, state, and local agencies having jurisdiction over or investigative interest in the substance of the allegations for investigative, corrective action, debarment, or reporting purposes.

To Government contractors employing individuals who are subjects of a hotline.

The DoD Blanket Routine Uses set forth at the beginning of DCAAs compilation of systems of records notices may apply to this system.

The complete list of DoD blanket routine uses can be found online at: http://dpcld.defense.gov/Privacy/SORNsIndex/BlanketRoutineUses.aspx

Policies and practices for storing, retrieving, accessing, retaining, and disposing of records in the system:

Storage:

Paper records and/or electronic storage media.

Retrievability:

By individual's name, subject matter, and case number.

Safeguards:

Access is limited to DCAA Inspector General staff. Records are accessed by properly screened and cleared personnel with a need-to-know. Paper records are stored in a secured room. Electronic media access is authenticated and validated through use of Common Access Cards (CACs) with encryption and user name and password verification.

Retention and disposal:

Closed case files not referred includes anonymous or vague allegations not warranting an investigation are destroyed or deleted after 2 years.

Referred case files. Includes matters referred to U.S. Office of Special Counsel (OSC) or the DoD Inspector General (DODIG) for handling, and support files providing general information that may prove useful in the investigation. Records are cutoff at closure, destroyed or deleted after 10 years.

Completed case files includes complaint files, inquires, replies, comments, and other documents relating to the investigation of non-criminal allegations of misconduct and mismanagement.

Final Reports are destroyed or deleted when 10 years old.

Work papers and background material are destroyed or deleted when 10 years old.

Electronic copies created on electronic mail and word processing systems are deleted after a record keeping copy has been produced.

Automated and paper records are retained within the Office of the Inspector General for a period of 10 years after referral or closure.

System manager(s) and address:

Office of Inspector General, Headquarters Defense Contract Audit Agency, 8725 John J. Kingman Road, Suite 2135, Fort Belvoir, VA 22060-6219.

Notification procedure:

Individuals seeking to determine whether information about themselves is contained in this system of records should address written inquiries to the Office of Inspector General, Headquarters Defense Contract Audit Agency, 8725 John J. Kingman Road, Suite 2135, Fort Belvoir, VA 22060-6219.

The request must contain full name, complete return address, and daytime contact telephone number.

Record access procedures:

Individuals seeking access to information about themselves contained in this system of records should address written inquiries to the Office of Inspector General, Headquarters Defense Contract Audit Agency, 8725 John J. Kingman Road, Suite 2135, Fort Belvoir, VA 22060-6219.

The request must contain full name, complete return address, and daytime contact telephone number.

Contesting record procedures:

DCAA's rules for accessing records, for contesting contents and appealing initial agency determinations are published in DCAA Instruction 5410.10; 32 CFR part 317; or may be obtained from the system manager.

Record source categories:

Information is provided by complainants, witnesses, subjects, suspects, investigators, inspectors general, members of Congress and members of other branches of Government, as required.

Exemptions claimed for the system:

Investigatory material may be exempt pursuant to 5 U.S.C. 552a(k)(2). However, if an individual is denied any right, privilege, or benefit for which he would otherwise be entitled by Federal law or for which he would otherwise be eligible, as a result of the maintenance of the information, the individual will be provided access to the information, except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and 3, (c) and (e) and published in 32 CFR part 317. For more information, contact the system manager.

[FR Doc. 2015-27231 Filed 10-26-15; 8:45 am]

BILLING CODE 5001-06-P